GENERAL SERVICES ADMINISTRATION

[Notice MG-2021-03; Docket No. 2021-0002; Sequence No. 25]

Office of Federal High-Performance Green Buildings; Green Building Advisory Committee; Notification of Upcoming Web-Based Meetings

AGENCY: Office of Government-wide Policy, General Services Administration (GSA).

ACTION: Notice of public meetings.

SUMMARY: Notice of these web-based public meetings/conference calls is being provided according to the requirements of the Federal Advisory Committee Act. This notice provides the schedule for one full Committee meeting of the Green Building Advisory Committee (Committee), which is open to the public. Interested individuals must register to attend and provide public comment as instructed below under SUPPLEMENTARY INFORMATION.

DATES: The Green Building Advisory Committee will hold a web-based meeting on Tuesday, November 16, 2021, from 11:00 a.m. to 4:00 p.m., Eastern Time (ET).

FOR FURTHER INFORMATION CONTACT: Michael Bloom, Designated Federal Officer, Office of Federal High-Performance Green Buildings, Office of Government-wide Policy, General Services Administration, at michael.bloom@gsa.gov or 312-805-6799. Additional information about the Committee, including meeting materials and agendas, will be available on-line at http://www.gsa.gov/gbac.

SUPPLEMENTARY INFORMATION:

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

Procedures for Attendance and Public Comment

Contact Michael Bloom, at michael.bloom@gsa.gov, to register to attend this public web-based meetings. To register, submit your full name, organization, email address, phone number. Requests to attend this web-based meeting must be received by 5:00 p.m. ET, on Wednesday, November 10, 2021. Meeting call-in information will be provided to interested parties who register by the deadline. (GSA will be unable to provide technical assistance to any listener experiencing technical difficulties. Testing access to the web-based meeting site before the meetings is recommended.)

Contact Mr. Bloom to register to provide public comment during the November 16th, 2021 meeting public comment period. Registered speakers/organizations will be allowed a maximum of five minutes each and will need to provide written copies of their presentations. Requests to provide public comment at the Committee meeting must be received by 5:00 p.m., ET, on Monday, November 8, 2021.

November 16, 2021 Meeting Agenda

• Updates and introductions

• Federal Building Decarbonization Task Group: Findings & Recommendations

• Environmental Justice and Equity Task Group: Findings & Recommendations

• Energy Storage Task Group: Final Vote to Accept Advice Letter

• New committee directions & topics to explore

• Public comment

• Next steps and closing comments

Kevin Kampschroer,
Federal Director, Office of Federal High-Performance Green Buildings, Office of Government-wide Policy, General Services Administration.

[FR Doc. 2021-23068 Filed 10-21-21; 8:45 am]

BILLING CODE 6820-14-P